SMALL BUSINESS ADMINISTRATION

[Disaster Declaration #13374 and #13375]

New York Disaster Number NY-00131

AGENCY: U.S. Small Business Administration.

ACTION: Amendment 3.

SUMMARY: This is an amendment of the Presidential declaration of a major disaster for Public Assistance Only for the State of New York (FEMA—4085—DR), dated 11/03/2012.

Incident: Hurricane Sandy.

Incident Period: 10/27/2012 through 11/08/2012,

Effective Date: 12/18/2012.

Physical Loan Application Deadline Date: 01/02/2013.

Economic Injury (EIDL) Loan Application Deadline Date: 08/05/2013.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of New York, dated 11/03/2012, is hereby amended to include the following areas as adversely affected by the disaster.

Primary Counties: Greene.

All other information in the original declaration remains unchanged.

(Catalog of Federal Domestic Assistance Numbers 59002 and 59008)

Joseph P. Loddo,
Acting Associate Administrator for Disaster Assistance.

[FR Doc. 2012-31322 Filed 12-27-12; 8:45 am]

BILLING CODE 8025-01-P